DEPARTMENT OF COMMERCE

National Oceanic and Atmospheric Administration

[RTID 0648-XA596]

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting via webinar of its Shrimp Advisory Panel (AP).

DATES: The webinar will convene on Monday, November 16, 2020, 10:30 a.m. to 5 p.m., EST. For agenda details, see SUPPLEMENTARY INFORMATION.

ADDRESSES: The meeting will be held via webinar. Please visit the Gulf Council website www.gulfcouncil.org for meeting materials and webinar registration information.

Council address: Gulf of Mexico Fishery Management Council, 4107 W. Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630. The Council's website, www.gulfcouncil.org also has details on the meeting location, proposed agenda, webinar listen-in access, and other materials.

SUPPLEMENTARY INFORMATION: The following items are on the agenda, though agenda items may be addressed out of order (changes will be noted on the Council's website when possible.)

Monday, November 16, 2020; 10:30 a.m.-5 p.m.

Meeting will begin with adoption of agenda, approval of minutes from the March 24, 2020 webinar; and, a review of scope of work with its members. The AP will receive an update on Shrimp Working Groups, a presentation on data issues with unmatched trips, and a presentation on a pilot program to evaluate use of a vessel navigation system to measure shrimping effort. The AP will discuss better Bycatch Reduction Devices (BRD) for the Gulf of Mexico Commercial Shrimp Trawl Fishery, Small Bar Turtle Excluder devices (TED), and any other business items.

—Meeting Adjourns

The meeting will be broadcast via webinar. You may register by visiting www.gulfcouncil.org and clicking on the AP meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take action to address the emergency at least 5 working days prior to the meeting.

Authority: 16 U.S.C. 1801 et seq.

Dated: October 26, 2020.
Tracey L. Thompson,
Acting Deputy Director, Office of Sustainable Fisheries, National Marine Fisheries Service.

[FR Doc. 2020-23952 Filed 10-28-20; 8:45 am]

BILLING CODE 3510-22-P